DEPARTMENT OF HEALTH AND HUMAN SERVICES

Indian Health Service

Office of Clinical and Preventive Services Funding Opportunity: National HIV Program for Enhanced HIV/AIDS Screening and Engagement in Care

AGENCY: Indian Health Service, HHS

ACTION: Notice: correction.

SUMMARY: The Indian Health Service published a document in the Federal Register on June 19, 2012, concerning Announcement Type: New. Funding Announcement Number: HHS-2012-IHS-OCPS-HIV-0001. Catalog of Federal Domestic Assistance Number: 93.933. The document contained five incorrect dates.

FOR FURTHER INFORMATION CONTACT: Dr. Charlene Avery, Director, Office of Clinical and Preventative Services, Indian Health Service, 801 Thompson Avenue, Suite 300, Reyes Building, Rockville, MD 20852, Telephone 301-443-1190. (This is not a toll-free number.)

Corrections

In the Federal Register of June 19, 2012, in FR DOC 2012-14891, on page 36550, in the third column, under the heading “Dates: Key Dates:” “Application Deadline Date: July 16, 2012.” should read “July 20, 2012.” On page 36552, in the first column, under the heading “Proof of Non-Profit Status”; “A copy of the 501(c)(3) Certificate must be received with your application submission by the deadline date of July 16, 2012.” should read “A copy of the 501(c)(3) Certificate must be received with your application submission by the deadline date of July 20, 2012.” On page 36553, in the first column, under the heading “3. Submission Dates and Times” “Applications must be submitted electronically through Grants.gov by 12:00 a.m., midnight Eastern Daylight Time (EDT) on July 16, 2012” should read “Applications must be submitted electronically through Grants.gov by 12:00 a.m., midnight Eastern Daylight Time (EDT) on July 20, 2012.” On page 36553, in the second column, under the heading “Proof of Non-Profit Status:” “Due Date July 16, 2012” should read “Due Date July 20, 2012.” On page 36553, in the third column, under the fourth bullet “If the waiver is approved, the application should be sent directly to the DGM by the deadline date of July 16, 2012.” should read “If the waiver is approved, the application should be sent directly to the DGM by the deadline date of July 20, 2012.”

Dated: July 2, 2012.
Yvette Roubideaux,
Director, Indian Health Service.

[FR Doc. 2012-17047 Filed 7-11-12; 8:45 am]

BILLING CODE 4165-16-P